DEPARTMENT OF COMMERCE

National Oceanic and Atmospheric Administration

Agency Information Collection Activities; Submission to the Office of Management and Budget (OMB) for Review and Approval; Comment Request; Atlantic Highly Migratory Species (HMS) Individual Bluefin Tuna Quota Tracking and Appeals

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on July 16, 2024, during a 60-day comment period. This notice allows for an additional 30 days for public comments.

Agency: National Oceanic and Atmospheric Administration, Commerce.

Title: Atlantic Highly Migratory Species Individual Bluefin Tuna Quota Tracking and Appeals.

OMB Control Number: 0648-0677.

Form Number(s): None.

Type of Request: Regular submission (request for extension of a current information collection).

Number of Respondents: 240.

Average Hours per Response: 12 minutes for initial application for IBQ account, 15 minutes per IBQ allocation lease, and 15 minutes per IBQ Cost Recovery.

Total Annual Burden Hours: 96.

Needs and Uses: This request is for renewal and extension of a currently approved information collection. Under the provisions of the Magnuson-Stevens Fishery Conservation and Management Act (16 U.S.C. 1801 et seq.), the National Marine Fisheries Service (NMFS) is responsible for management of the Nation's marine fisheries. NMFS must also promulgate regulations, as necessary and appropriate, to carry out obligations the United States undertakes internationally regarding tuna management through the Atlantic Tunas Convention Act (ATCA, 16 U.S.C. 971 et seq.).

Amendment 7 to the 2006 Consolidated HMS Fishery Management Plan (79 FR 71510, December 2, 2014) implemented individual bluefin tuna quota (IBQ) shares and allocations for vessels permitted in the Atlantic Tunas Longline category through the IBQ online system. IBQs are intended to fairly and effectively allocate limited quota for incidental capture of Atlantic bluefin tuna among vessels in the Longline category, while minimizing dead discards and discouraging interactions with bluefin tuna. An online system developed by NMFS tracks allocations and allocation leases, and reconciles allocation with bluefin tuna catches for quota monitoring. This collection of information accounts for the reporting burden associated with allocation and lease tracking. Amendment 13 to the 2006 Consolidated HMS FMP (87 FR 59966) reaffirmed the need for IBQs and, among other things, made adjustments to the vessel allocation process, and established procedures for cost recovery if deemed necessary.

First-time vessel permit holders in the affected categories must obtain and set up an IBQ account in the online “IBQ Catch Shares Program” in order to be issued IBQ shares and resultant allocation, to lease IBQ, and to resolve quota debt. To use the electronic IBQ System, first-time participants will need to request an account and set their account up with background information. The information collected during account issuance and set-up will be used by NMFS to verify the identity of the individual/business and whether they qualify for IBQ allocation leasing.

The lease monitoring information collected by the online system will be used by each permit holder to keep track of their individual IBQ allocation, and document allocation leases with other IBQ participants. NMFS will use these data to ensure proper accounting of allocations among participants, and to track use of quota allocations and reconcile allocation usage with bluefin tuna catch and landings.

Affected Public: Business or other for-profit organizations.

Frequency: Once for IBQ account set up; annually, or as needed, for IBQ lease applications; and annually for IBQ cost recovery.

Respondent's Obligation: Mandatory.

Legal Authority: Magnuson-Stevens Fishery Conservation and Management Act (16 U.S.C. 1801 et seq.), and the Atlantic Tunas Convention Act of 1975 (16 U.S.C. 971 et seq.).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0677.

Sheleen Dumas,
Departmental PRA Clearance Officer, Office of the Under Secretary for Economic Affairs, Commerce Department.

[FR Doc. 2024-27911 Filed 11-27-24; 8:45 am]

BILLING CODE 3510-22-P